DEPARTMENT OF LABOR

Employment and Training Administration

[TA-W-41,224]

Alox Corporation, Niagara Falls, New York; Notice of Termination of Investigation

Pursuant to section 221 of the Trade Act of 1974, an investigation was initiated on April 1, 2002 in response to a petition that was filed by a company official on behalf of workers at Alox Corporation, Niagara Falls, New York.

The date of the petition is March 4, 2002. In accordance with section 223(b) of the Act, no certification may apply to any worker whose last total or partial separation from the subject firm occurred before March 4, 2001, one year prior to the date of the petition. The company official reported that in March 2000 the company was sold, at which time the workers were separated from employment with Alox Corporation.

Consequently, further investigation in this case would serve no purpose, and the investigation has been terminated.

Signed in Washington, DC, this 15th day of May, 2002.
Linda G. Poole,
Certifying Officer, Division of Trade Adjustment Assistance.

[FR Doc. 02-15440 Filed 6-18-02; 8:45 am]

BILLING CODE 4510-30-P